OVERSEAS PRIVATE INVESTMENT CORPORATION

Sunshine Act Meeting

AGENCY: Overseas Private Investment Corporation.

PURPOSE: Public Hearing in conjunction with quarterly meeting of OPIC's Board of Directors, to afford an opportunity for any person to present views regarding the activities of the Corporation.

FEDERAL REGISTER CITATION OF PREVIOUS ANNOUNCEMENT: 66 FR 11188, February 22, 2001.

CHANGES IN THE MEETING: Public Hearing originally scheduled for 2:00 p.m., Thursday, March 8, 2001 postponed.

The Public Hearing previously scheduled for 2 p.m. on Thursday, March 8, 2001 has been postponed until further notice.

Connie M. Downs,
Corporate Secretary, Overseas Private Investment Corporation.

[FR Doc. 01-4935 Filed 2-23-01; 4:40 pm]

BILLING CODE 3210-10-M